DEPARTMENT OF TRANSPORTATION

Federal Aviation Administration

14 CFR Part 39

[Docket No. FAA-2023-1817; Project Identifier MCAI-2023-00664-T; Amendment 39-22732; AD 2024-07-11]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is adopting a new airworthiness directive (AD) for certain Airbus Canada Limited Partnership Model BD-500-1A10 and BD-500-1A11 airplanes. This AD was prompted by a design review that identified the fixed emergency locator transmitter (ELT) lithium batteries would not be sufficiently cooled by the outside air in the event of a thermal runaway event. This AD requires replacing the ELT with a new ELT with redesigned batteries, as specified in a Transport Canada AD, which is incorporated by reference. The FAA is issuing this AD to address the unsafe condition on these products.

DATES: This AD is effective June 6, 2024.

The Director of the Federal Register approved the incorporation by reference of a certain publication listed in this AD as of June 6, 2024.

ADDRESSES:

AD Docket: You may examine the AD docket at regulations.gov under Docket No. FAA-2023-1817; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material that is identified in this final rule, contact Transport Canada, Transport Canada National Aircraft Certification, 159 Cleopatra Drive, Nepean, Ontario K1A 0N5, Canada; telephone 888-663-3639; email TC.AirworthinessDirectives-Consignesdenavigabilite.TC@tc.gc.ca; website tc.canada.ca/en/aviation.

• You may view this material at the FAA, Airworthiness Products Section, Operational Safety Branch, 2200 South 216th Street, Des Moines, WA. For information on the availability of this material at the FAA, call 206-231-3195. It is also available in the AD docket at regulations.gov under Docket No. FAA-2023-1817.

FOR FURTHER INFORMATION CONTACT: Steven Dzierzynski, Aviation Safety Engineer, FAA, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 by adding an AD that would apply to certain Airbus Canada Limited Partnership Model BD-500-1A10 and BD-500-1A11 airplanes. The NPRM published in the Federal Register on September 6, 2023 (88 FR 60899). The NPRM was prompted by AD CF-2023-31, dated May 8, 2023 (Transport Canada AD CF-2023-31) (also referred to as the MCAI), issued by Transport Canada, which is the aviation authority for Canada. The MCAI states a design review identified that the fixed ELT lithium batteries would not be sufficiently cooled by the outside air in the event of a thermal runaway event. As a result, a thermal runaway could lead to an uncontrolled fire of the fixed ELT, which may compromise the structural integrity of the aircraft structure in the area where the fixed ELT is installed.

The FAA is issuing this AD to address the unsafe condition on these products. You may examine the MCAI in the AD docket at regulations.gov under Docket No. FAA-2023-1817.

Discussion of Final Airworthiness Directive

Comments

The FAA received comments from the Air Line Pilots Association, International (ALPA) who supported the NPRM without change.

The FAA received additional comments from Delta Air Lines (Delta). The following presents the comments received on the NPRM and the FAA's response to each comment.

Request To Add Exception To Clarify Acceptable Compliance Methods

Delta requested that the FAA add an exception to clarify the acceptable compliance methods stated in Transport Canada AD CF-2023-31. Delta noted that Transport Canada AD CF-2023-31 states a compliance time of 48 months from the effective date of the AD, unless already accomplished and also states credit is provided if Airbus Canada Service Bulletin BD500-256006, Issue 001, dated March 15, 2021, or Issue 002, dated November 24, 2021, is done before the effective date of the AD. Delta states these statements are contradictory and does not provide credit for later revisions of the service bulletin (i.e., Issues 003, 004, and 005). Delta requested that an exception paragraph be added to paragraph (h) of the proposed AD to specify that credit is given if actions are done before the effective date of the AD in accordance with Issues 001 through 005 of the service bulletin.

The FAA disagrees with the request to add an exception to this AD. The two statements are not contradictory. Paragraph (f) of this AD states to accomplish the required actions within the compliance times specified, “unless already done.” Therefore, if operators have accomplished the actions required for compliance with this AD before the effective date of this AD, no further action is necessary. Adding an exception to Transport Canada AD CF-2023-31 to provide credit for Issue 003, 004, and 005 of Airbus Canada Service Bulletin BD500-256006 is not necessary. Issue 003, 004, and 005 of Airbus Canada Service Bulletin BD500-256006 (and later approved revisions) are always acceptable methods of compliance for accomplishing the actions of this AD, whether done before or after the effective date of the AD. The FAA has not changed this AD in this regard.

Request for Exception To Correct Discrepancies in the Service Bulletin

Delta requested that the FAA add an exception in paragraph (h) of the proposed AD to correct for the following discrepancies in all issues 01 through 05 of Airbus Canada Service Bulletin BD500-256006.

1. Step 3.2.2 in Airbus Canada Service Bulletin BD500-256006 Issue 001, 002, and 003 states to keep the washers, and in Airbus Canada Service Bulletin BD500-256006 Issue 004 and 005 does not mention whether to keep or discard the washers. Delta stated that new washers are provided in the servicing kit.

2. Step 3.4.3 refers to bracket (4) in figure 4 instead of the correct bracket (8).

3. Step 3.4.4 refers to bracket (8) in figure 4 instead of the correct bracket (4).

4. Step 3.4.6 states to “Do a countersink in the hole of the support (4) for the rivet (6).” The support references the wrong item number, which should be support (3).

5. Step 3.5.3 states to “torque the screw (7) (refer to AMP BD500-A-J20-31-00-00AAA-711A-A).” Both, Step 3.5.3, and the AMP (Approved Maintenance Publications) reference do not include a torque value.

6. Step 1.ii.11. of Appendix 2 states to “install the wire harness ID-TAG CPATE1033-001 over the EXPANDO on the marked location.” Delta discovered that since the wire harness ID tag labeled CPATE1033-001 is a shrink wrap ID tag, it is not possible to remove as originally instructed in Steps 1.ii.7. and 8. of Appendix 2 and re-install over the EXPANDO (wire bundle protection sleeve). Delta requested that the proposed AD specify that it is acceptable to leave the ID tag access, where it is still visible under the EXPANDO.

The FAA agrees with the commenter's request, and confirmed with the manufacturer that the service information is incorrect. The manufacturer is considering addressing any errors in a future revision of Airbus Canada Service Bulletin BD500-256006. The FAA has added paragraphs (h)(2) through (7) to this AD to provide the requested clarification.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

Transport Canada AD CF-2023-31 specifies procedures for replacing the fixed ELT with an ELT with improved batteries that do not rely on cooling from the outside. The replacement includes modifying two electrical harnesses and installing a new ELT support assembly, ELT, and aircraft identification module (AIM). This material is reasonably available because the interested parties have access to it through their normal course of business or by the means identified in the ADDRESSES.

Costs of Compliance

The FAA estimates that this AD affects 71 airplanes of U.S. registry. The FAA estimates the following costs to comply with this AD:

Estimated Costs for Required Actions
Labor cost | Parts cost | Cost per product | Cost on U.S. operators
19 work-hours × $85 per hour = $1,615 | $12,804 | $14,419 | $1,023,749

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-07-11 Airbus Canada Limited Partnership (Type Certificate Previously Held by C Series Aircraft Limited Partnership (CSALP); Bombardier, Inc.): Amendment 39-22732; Docket No. FAA-2023-1817; Project Identifier MCAI-2023-00664-T.

(a) Effective Date

This airworthiness directive (AD) is effective June 6, 2024.

(b) Affected ADs

None.

(c) Applicability

This AD applies to Airbus Canada Limited Partnership (Type Certificate previously held by C Series Aircraft Limited Partnership (CSALP); Bombardier, Inc.) Model BD-500-1A10 and BD-500-1A11 airplanes, certificated in any category, as identified in Transport Canada AD CF-2023-31, dated May 8, 2023 (Transport Canada AD CF-2023-31).

(d) Subject

Air Transport Association (ATA) of America Code: 25, Equipment/furnishings.

(e) Unsafe Condition

This AD was prompted by a design review that identified the fixed emergency locator transmitter (ELT) lithium batteries would not be sufficiently cooled by the outside air in the event of a thermal runaway event. The FAA is issuing this AD to address a thermal runaway that could lead to an uncontrolled fire of the fixed ELT. The unsafe condition, if not addressed, may compromise the structural integrity of the aircraft structure in the area where the fixed ELT is installed.

(f) Compliance

Comply with this AD within the compliance times specified, unless already done.

(g) Requirements

Except as specified in paragraph (h) of this AD: Comply with all required actions and compliance times specified in, and in accordance with, Transport Canada AD CF-2023-31.

(h) Exceptions to Transport Canada AD CF-2023-31

(1) Where Transport Canada AD CF-2023-31 refers to its effective date, this AD requires using the effective date of this AD.

(2) Where Step 3.2.2 of the service information referenced in AD CF-2023-31 specifies to either to keep the washers or does not specify whether to keep or discard the washers, this AD requires the washers to be discarded.

(3) Where Step 3.4.3 of the service information referenced in AD CF-2023-31 specifies “Backdrill three holes from the bracket (4) to a diameter of 0.160 to 0.164 in. (4.06 to 4.17 mm) in the support (3).”, for this AD, replace that text with “Backdrill three holes from the bracket (8) to a diameter of 0.160 to 0.164 in. (4.06 to 4.17 mm) in the support (3).”

(4) Where Step 3.4.4 of the service information referenced in AD CF-2023-31 specifies “Backdrill three holes from the bracket (8) to a diameter of 0.160 to 0.164 in. (4.06 to 4.17 mm) in the support (3).”, for this AD, replace that text with “Backdrill three holes from the bracket (4) to a diameter of 0.160 to 0.164 in. (4.06 to 4.17 mm) in the support (3).”

(5) Where Step 3.4.6 of the service information referenced in AD CF-2023-31 specifies “Do a countersink in the hole of the support (4) for the rivet (6)”, for this AD replace that text with “Do a countersink in the hole of the support (3) for the rivet (6).”

(6) Where Step 3.5.3 of the service information referenced in AD CF-2023-31 specifies to torque the screw, this AD does not require that action.

(7) Where Steps 1.ii.7., 8. and 11. of Appendix 2 of the service information referenced in AD CF-2023-31 specifies to mark, remove, and re-install the wire harness ID tag CPATE1033-001, this AD does not require those actions.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (j)(1) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Airbus Canada Limited Partnership's Transport Canada Design Approval Organization (DAO). If approved by the DAO, the approval must include the DAO-authorized signature.

(3) Required for Compliance (RC): Except as required by paragraph (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact: Steven Dzierzynski, Aviation Safety Engineer, FAA, 1600 Stewart Avenue, Suite 410, Westbury, NY 11590; telephone 516-228-7300; email 9-avs-nyaco-cos@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Transport Canada AD CF-2023-31, dated May 8, 2023.

(ii) [Reserved]

(3) For Transport Canada AD CF-2023-31, contact Transport Canada, Transport Canada National Aircraft Certification, 159 Cleopatra Drive, Nepean, Ontario K1A 0N5, Canada; telephone 888-663-3639; email TC.AirworthinessDirectives-Consignesdenavigabilite.TC@tc.gc.ca; website tc.canada.ca/en/aviation.

(4) You may view this material at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locations or email fr.inspection@nara.gov.

Issued on April 4, 2024.
Victor Wicklund,
Deputy Director, Compliance & Airworthiness Division, Aircraft Certification Service.

[FR Doc. 2024-09352 Filed 5-1-24; 8:45 am]

BILLING CODE 4910-13-P